OFFICE OF NATIONAL DRUG CONTROL POLICY

Renewal of Charter and Meeting of Drug Control Research, Data, and Evaluation Committee

AGENCY: Office of National Drug Control Policy.

ACTION: Notice.

SUMMARY: Pursuant to the Federal Advisory Committee Act, 5 U.S.C. App. 2 and 41 CFR 101-6.1013, the Office of National Drug Control Policy renewed the charter of the Drug Control Research, Data, and Evaluation Committee on October 16, 2000. The renewed charter is available for viewing through the Library of Congress and the United States General Services Administration.

A meeting of the Drug Control Research, Data, and Evaluation Committee will be held on December 7, 2000 at the Office of National Drug Control Policy in the 5th Floor Conference Room, 750 17th Street NW, 7th Floor, Washington, DC. The meeting will commence at 9:00 a.m. on Thursday December 7th and adjourn at 4:00 p.m.

The agenda will include: The National Research Council Study of ONDCP's Data and Research for Policy on Illegal Drugs; the National Drug Control Strategy's Performance Measures of Effectiveness; the Medicaid IMD Exclusion; Substance Abuse Treatment Parity; Prevention Principles; Neuroimaging and Treatment Technology; and Using technology to combat drug-related crime. There will be an opportunity for public comment from 11:30 a.m. until 12:00 noon on Thursday, December 7, 2000.

FOR FURTHER INFORMATION CONTACT: Please direct any questions to Linda V. Priebe, Attorney-Advisor, (202) 395-6622, Office of National Drug Control Policy, Executive Office of the President, Washington, DC 20503.

Linda V. Priebe,
Attorney-Advisor.

[FR Doc. 00-29986 Filed 11-22-00; 8:45 am]

BILLING CODE 3180-02-P